DEPARTMENT OF TRANSPORTATION

Office of the Secretary

Aviation Proceedings, Agreements Filed the Week Ending May 16, 2003

The following agreements were filed with the Department of Transportation under the provisions of 49 U.S.C. 412 and 414. Answers may be filed within 21 days after the filing of the application.

Docket Number: OST-2003-15173.

Date Filed: May 13, 2003.

Parties: Members of the International Air Transport Association.

Subject: Mail Vote 300—Resolution 010o, PTC2 ME 0121 dated 16 May 2003, PTC2 EUR-ME 0161 dated 16 May 2003, PTC2 ME-AFR 0106 dated 16 May 2003, PTC23 ME-TC3 0176 dated 16 May 2003, Special Passenger Amending Resolution from Qatar r1-r7, Intended effective date: 22 May 2003.

Dorothy Y. Beard,
Chief, Docket Operations & Media Management, Federal Register Liaison.

[FR Doc. 03-13239 Filed 5-27-03; 8:45 am]

BILLING CODE 4910-62-P